DEPARTMENT OF THE TREASURY

Community Development Financial Institutions Fund

Community Development Financial Institutions Rapid Response Program (CDFI RRP)

Funding Opportunity Title: Notice of Funds Availability (NOFA) inviting Applications for grants to support, prepare for, and respond to the economic impacts of the COVID-19 pandemic through the Community Development Financial Institutions Fund (CDFI Fund) CDFI Rapid Response Program (CDFI RRP).

Announcement Type: Announcement of funding opportunity.

Funding Opportunity Number: CDFI-2021-RRP.

Catalog of Federal Domestic Assistance (CFDA) Number: 21.024.

DATES:

Table 1—CDFI Rapid Response Program Critical Deadlines for Applicants
Description | Deadline | Time (eastern time—ET) | Submission method
Last day to enter EIN and DUNS numbers in AMIS | March 22, 2021 | 11:59 p.m | AMIS.
Last day to submit SF-424 Mandatory (Application for Federal Assistance) | March 22, 2021 | 11:59 p.m | Electronically via Grants.gov.
Last day to contact CDFI Fund with questions about the CDFI Rapid Response Program | March 23, 2021 | 5:00 p.m | Service Request ¹ via AMIS or CDFI Fund Helpdesk: 202-653-0421.
Last day to contact AMIS-IT Help Desk (regarding AMIS technical problems only) | March 25, 2021 | 5:00 p.m | Service Request via AMIS or 202-653-0422 or AMIS@cdfi.treas.gov.
Last day to submit CDFI Rapid Response Program Application | March 25, 2021 | 11:59 p.m | AMIS.

Executive Summary: Through the CDFI Rapid Response Program (CDFI RRP), the CDFI Fund will provide (i) awards of up to $5 million to Certified Community Development Financial Institutions (CDFIs) ² to support, prepare for, and respond to the economic impact of the COVID-19 pandemic. All awards provided through this NOFA are subject to funding availability.

¹ Service Request shall mean a written inquiry or notification submitted to the CDFI Fund via AMIS.

² Certified CDFI shall mean an entity that the CDFI Fund has officially notified that it meets all CDFI certification requirements.

I. Program Description

A. History: The CDFI Fund was established by the Riegle Community Development Banking and Financial Institutions Act of 1994 to promote economic revitalization and community development through investment in and assistance to CDFIs. The CDFI Rapid Response Program was authorized by Congress to provide grants to CDFIs to support, prepare for, and respond to the economic impact of the COVID-19 pandemic.

B. Priorities: Through CDFI Rapid Response Program grants, the CDFI Fund will invest in and build the capacity of for-profit and non-profit community based lending organizations known as CDFIs. These organizations, certified as CDFIs by the CDFI Fund, serve rural and urban Low-Income people, and communities across the nation that lack adequate access to affordable Financial Products and Financial Services. The CDFI Rapid Response Program grants will be used to support the CDFI's provision of financial products and services to underserved people and communities as well as the operational expenses to support the CDFI's operational capacity.

C. Authorizing Statutes and Regulations: The CDFI Rapid Response Program is authorized by The Coronavirus Response and Relief Supplemental Appropriations Act of 2021 (Pub. L. 116-260) (Authorizing Statute). The regulations governing the CDFI Program are found at 12 CFR parts 1805 and 1815 (the Regulations) and are used by the CDFI Fund to govern, in general, the CDFI Rapid Response Program, setting forth evaluation criteria and other program requirements. The CDFI Fund encourages Applicants to review the Regulations; this NOFA; the CDFI Rapid Response Program Application (the Application); all related materials and guidance documents found on the CDFI Fund's website (Application materials); and the Uniform Administrative Requirements, Cost Principles, and Audit Requirements for Federal Awards (2 CFR part 1000), which is the Department of the Treasury's codification of the Office of Management and Budget (OMB) government-wide framework for grants management at 2 CFR part 200 (the Uniform Requirements) for a complete understanding of the program. Capitalized terms in this NOFA are defined in the Authorizing Statute, the Regulations, this NOFA, the Application, Application materials, or the Uniform Requirements. Details regarding Application content requirements are found in the Application and Application materials.

D. Uniform Administrative Requirements, Cost Principles, and Audit Requirements for Federal Awards (2 CFR part 1000): The Uniform Requirements codify financial, administrative, procurement, and program management standards that Federal awarding agencies must follow. When evaluating Applications, awarding agencies must evaluate the risks posed by each Applicant, and each Applicant's merits and eligibility. These requirements are designed to ensure that Applicants for Federal assistance receive a fair and consistent review prior to an award decision. This review will assess items such as certification status, financial and compliance performance, portfolio and balance sheet strength, a diversity of CDFI business model types, and program capacity. In addition, the Uniform Requirements include guidance on audit requirements and other award compliance requirements for Recipients.

E. Funding limitations: The CDFI Fund reserves the right to fund, in whole or in part, any, all, or none of the Applications submitted in response to this NOFA.

II. Federal Award Information

A. Funding Availability:

1. CDFI Rapid Response Program: The CDFI Fund expects to award, through this NOFA, approximately $1.248 billion as indicated in the following table:

Table 2—CDFI Rapid Response Program Anticipated Category Amounts
Funding categories | Estimated total amount to be awarded | Award amount: Minimum | Award amount: Maximum * | Estimated number of awards | Estimated average amount to be Awarded ³
CDFI Rapid Response Program | $1,223,000,000 | $200,000 | $5,000,000 or 150% of the Applicant's Total On-Balance Sheet Financial Products Closed in Eligible Markets and/or Target Markets ⁴ in the Most Recent Historic Fiscal Year, ⁵ whichever is less | 1,000 | $1,189,000
CDFI Rapid Response Program—Native Communities ⁶ | No less than $25,000,000 ⁷ | 200,000 | 5,000,000 or 150% of the Applicant's Total On-Balance Sheet Financial Products Closed in Eligible Markets and/or Target Markets in the Most Recent Historic Fiscal Year, whichever is less | 50 | 1,189,000
* The CDFI Fund does not anticipate that any applicant will receive the maximum award amount of $5 million. The award is dependent on the number of awards made, for example: If there are 510 awards, the estimated largest award would be $3.3 million; if there are 800 awards, the estimated largest award would be $1.8 million; and if there are 1,050 awards, the estimated largest award would be $1.4 million.

³ The Estimated Average Amount to be Awarded is derived from the Estimated Total Amount to be Awarded divided by the Estimated Number of Awards for both funding categories.

⁴ Total On-Balance Sheet Financial Products Closed in Eligible Markets and/or Target Markets is the sum of the following Application Financial Data inputs in the CDFI Rapid Response Program Application: On-Balance Sheet Loans Closed in Eligible Markets and/or Target Markets, On-Balance Sheet Loan Guarantees Made in Eligible Markets and/or Target Markets, and Total Equity Investments Closed in Eligible Markets and/or Target Markets.

⁵ For the purposes of this NOFA, an Applicant's most recent historic fiscal year end is determined as follows:

(A) Applicants with a 3/31 fiscal year end date will treat FY 2020 as their most recent historic fiscal year and FY 2021 as their current year.

(B) Applicants with a 6/30 fiscal year end date will treat FY 2020 as their most recent historic fiscal year and FY 2021 as their current year.

(C) Applicants with a 9/30 fiscal year end date and a completed FY 2020 audit will treat FY 2020 as their most recent historic fiscal year and FY 2021 as their current year.

(D) Applicants with a 9/30 fiscal year end date but without a completed FY 2020 audit will treat FY 2019 as their most recent historic fiscal year and FY 2020 as their current year.

(E) Applicants with a 12/31 fiscal year end date, with or without a completed FY 2020 audit, will treat FY 2019 as their most recent historic fiscal year and FY 2020 as their current year.

⁶ Native Communities shall mean Native American, Alaska Native, or Native Hawaiian populations or Native American areas defined as Federally-designated reservations, Hawaiian homelands, Alaska Native Villages and U.S. Census Bureau-designated Tribal Statistical Areas.

⁷ In accordance with the Authorizing Statute, no less than $25 million will be awarded as grants to benefit Native American, Native Hawaiian, and Alaska Native communities.

The CDFI Fund reserves the right to award more or less than the amounts cited above in each category, based upon available funding and other factors, as appropriate.

2. Funding Availability for the CDFI Rapid Response Program: Funding for the CDFI Rapid Response Program is provided through The Coronavirus Response and Relief Supplemental Appropriations Act of 2021 (Pub. L. 116-260).

3. Anticipated Start Date and Period of Performance: The Period of Performance for CDFI Rapid Response Program grants begins with the date of the award announcement and includes a Certified CDFI Recipient's two full consecutive fiscal years after the date of the award announcement, during which the Recipient must meet the Performance Goals and Measures (PG&Ms) set forth in the Assistance Agreement.

B. Types of Awards: Through the CDFI Rapid Response Program, the CDFI Fund provides awards in the form of grants to Certified CDFIs. At least $25 million of the funds available must be awarded in the form of a grant to Certified CDFIs that serve Native Communities.⁸ The CDFI Fund reserves the right, in its sole discretion, to provide a CDFI Rapid Response Program grant in an amount other than that which the Applicant requests; however, the CDFI Rapid Response Program grant amount will not exceed the Applicant's request as stated in its Application.

⁸ To qualify as a CDFI that serves Native Communities an Applicant must meet several requirements.

1. 50% or more of the Applicant's past activities must be directed to Native Communities.

2. The Applicant's certification Target Market must have one or more of the following characteristics.

a. For qualifying with an Investment Area Target Market, the Applicant must demonstrate that the Investment Area approved for certification is also a geographic area of Federally-designated reservations, Hawaiian homelands, Alaska Native Villages and U.S. Census Bureau designated Tribal Statistical Areas; and/or

b. For qualifying with an Other Targeted Population (OTP) Target Market, the Applicant's Target Market approved for certification must be an OTP of Native Americans or American Indians, including Alaska Natives living in Alaska and Native Hawaiians living in Hawaii.

For purposes of this NOFA, a Native Community is defined as Native American, Alaska Native, or Native Hawaiian populations or Native American areas defined as Federally-designated reservations, Hawaiian homelands, Alaska Native Villages and U.S. Census Bureau-designated Tribal Statistical areas.

C. Eligible Activities:

1. CDFI Rapid Response Program: CDFI Rapid Response Program grant funds may be expended for eligible activities serving Commercial Real Estate, Small Business, Microenterprise, Community Facilities, Consumer Financial Products, Consumer Financial Services, Commercial Financial Products, Commercial Financial Services, Affordable Housing, Intermediary Lending to Non-Profits and CDFIs, and other lines of business as deemed appropriate by the CDFI Fund in the following five categories supporting the direct provision of financial products and services: (i) Financial Products; (ii) Financial Services; (iii) Loan Loss Reserves; (iv) Development Services; and (v) Capital Reserves. In addition, the greater of $200,000 or 15% of the CDFI Rapid Response Program grant may be expended for supporting operations in the following seven eligible activity categories: (vi) Compensation—Personal Services; (vii) Compensation—Fringe Benefits; (viii) Professional Service Costs; (ix) Travel Costs; (x) Training and Education Costs; (xi) Equipment; and (xii) Supplies. CDFI Rapid Response Program grants may only be used for Direct Costs associated with an eligible activity. Direct Costs are incurred by the Recipient to carry out the award eligible activities is as described in section 2 CFR 200.413 of the Uniform Requirements. The eligible activity categories will not be authorized for Indirect Costs or an associated Indirect Cost Rate. Any expenses that are prohibited by the Uniform Requirements are unallowable and are generally found in Subpart E-Cost Principles.

The CDFI Rapid Response Program Budget is the amount of the award and must be expended in the 12 eligible activity categories prior to the end of the Budget Period.⁹ The CDFI Fund will not approve an amendment to extend the Budget Period to allow a Recipient additional time to expend the CDFI Rapid Response Program grant.

⁹ Budget Period means the time interval from the start date of a funded portion of an award to the end date of that funded portion during which Recipients are authorized to expend the funds awarded. The Budget Period for CDFI Rapid Response Program grants begins with the date of the award announcement and includes a Certified CDFI Recipient's two full consecutive fiscal years after the date of the award announcement.

CDFI Rapid Response Program Recipients must meet certain PG&Ms:

(i) All CDFI Rapid Response Program Recipients must expend 90% of the Recipient's first payment amount in the first year of the Budget Period and expend 100% of the total award amount by the Budget Period end date.

(ii)(a) Recipients that receive an award greater than $200,000 (the minimum award amount) and that do not qualify for CDFI Rapid Response Program funding designated to benefit Native Communities, must meet the following requirement:

—Close Financial Products in an Eligible Market(s) or the Recipient's approved Target Market in an amount equal to or greater than 50% of the total CDFI Rapid Response Program award amount in the first year of the Period of Performance and 70% of the total CDFI Rapid Response Program award amount by the Period of Performance end date. If awarded, the Applicant may satisfy this goal using the CDFI Rapid Response Program Assistance or other available funds on its balance sheet.

(ii)(b) Recipients that receive an award greater than $200,000 (the minimum award amount) and that qualify for CDFI Rapid Response Program funding designated to benefit Native Communities must meet the following requirement:

—Close Financial Products in Native Communities in an amount equal to or greater than 50% of the total CDFI Rapid Response Program award amount in the first year of the Period of Performance and 70% of the total CDFI Rapid Response Program award amount by the Period of Performance end date. If awarded, the Applicant may satisfy this goal using the CDFI Rapid Response Program Assistance or other available funds on its balance sheet.

Final PG&Ms may differ and will be set forth in the final CDFI Rapid Response Program Assistance Agreement. Financial Products and expended award funds used to satisfy the CDFI Rapid Response Program Performance Goals may not also be reported for Performance Goals related to CDFI Program and NACA Program awards.

The Recipient must comply, as applicable, with the Buy American Act of 1933, 41 U.S.C. 8301-8303 and section 2 CFR 200.216 of the Uniform Requirements,¹⁰ with respect to any Direct Costs.

¹⁰ § 2 CFR 200.216 prohibits Recipients and Subrecipients from obligating or expending loan or grant funds to procure or obtain, by contract or otherwise, equipment, services, or systems that use “covered telecommunications equipment”. As used herein, “covered telecommunications equipment” is telecommunications equipment produced by Huawei Technologies Company or ZTE Corporation (or any Subsidiary or Affiliate of such entities).

For purposes of this NOFA, the 12 eligible activity categories are defined below:

Table 3—CDFI Rapid Response Program Eligible Activity Categories
Eligible activity | Eligible activity definition * | Eligible CDFI institution types
i. Financial Products | Grant funds expended as loans, Equity Investments and similar financing activities (as determined by the CDFI Fund) including the purchase of loans originated by Certified CDFIs and the provision of loan guarantees. In the case of CDFI Intermediaries, Financial Products may also include loans to CDFIs and/or Emerging CDFIs, and deposits in Insured Credit Union CDFIs, Emerging Insured Credit Union CDFIs, and/or State-Insured Credit Union CDFIs | All.
ii. Financial Services | Grant funds expended for providing checking, savings accounts, check cashing, money orders, certified checks, automated teller machines, deposit taking, safe deposit box services, and other similar services | Regulated Institutions ¹¹ only.
iii. Loan Loss Reserves | Grant funds set aside in the form of cash reserves, or through accounting-based accrual reserves, to cover losses on loans, accounts, and notes receivable or for related purposes that the CDFI Fund deems appropriate | All.
iv. Development Services | Grant funds expended for activities undertaken by a CDFI, its Affiliate or contractor that (i) promote community development and (ii) prepare or assist current or potential borrowers or investees to use the CDFI's Financial Products or Financial Services. For example, such activities include financial or credit counseling; homeownership counseling; business planning; and management assistance | All.
v. Capital Reserves | Grant funds set aside as reserves to support the Applicant's ability to leverage other capital, for such purposes as increasing its net assets or providing financing, or for related purposes as the CDFI Fund deems appropriate | Regulated Institutions only.
Only the greater of $200,000 or 15 percent of the CDFI Rapid Response Program grant may be expended in the below seven eligible activity categories.
vi. Compensation—Personal Services | Grant funds paid to cover all remuneration, paid currently or accrued, for services of Applicant's employees rendered during the Period of Performance under the CDFI Rapid Response Program grant in accordance with section 200.430 of the Uniform Requirements Any work performed directly, but unrelated to the purposes of the CDFI Rapid Response Program grant may not be paid as Compensation using a CDFI Rapid Response Program grant. For example, the salaries for building maintenance personnel would not carry out the purpose of a CDFI Rapid Response Program grant and would be deemed unallowable | All.
vii. Compensation—Fringe Benefits | Grant funds paid to cover allowances and services provided by the Applicant to its employees as Compensation in addition to regular salaries and wages, in accordance with section 200.431 of the Uniform Requirements. Such expenditures are allowable as long as they are made under formally established and consistently applied organizational policies of the Applicant | All.
viii. Professional Service Costs | Grant funds used to pay for professional and consultant services (e.g., such as strategic and marketing plan development), rendered by persons who are members of a particular profession or possess a special skill (e.g., credit analysis, portfolio management), and who are not officers or employees of the Applicant, in accordance with section 200.459 of the Uniform Requirements. Payment for a consultant's services may not exceed the current maximum of the daily equivalent rate paid to an Executive Schedule Level IV Federal employee. The Applicant must comply, as applicable, with section 2 CFR 200.216 of the Uniform Requirements, with respect to payment of Professional Service Costs | All.
ix. Travel Costs | Grant funds used to pay costs of transportation, lodging, subsistence, and related items incurred by the Applicant's personnel who are on travel status on business related to the CDFI Rapid Response Program grant, in accordance with section 200.475 of the Uniform Requirements. Travel Costs do not include costs incurred by the Applicant's consultants who are on travel status. Any payments for travel expenses incurred by the Applicant's personnel but unrelated to carrying out the purpose of the CDFI Rapid Response Program grant would be deemed unallowable. As such, documentation must be maintained that justifies the travel as necessary to the CDFI Rapid Response Program grant | All.
x. Training and Education Costs | Grant funds used to pay the cost of training and education provided by the Applicant for employees' development in accordance with section 200.473 of the Uniform Requirements. Grant funds can only be used to pay for training costs incurred by the Applicant's employees. Training and Education Costs may not be incurred by the Applicant's consultants | All.
xi. Equipment | Grant funds used to pay for tangible personal property, having a useful life of more than one year and a per-unit acquisition cost of at least $5,000, in accordance with section 200.1 of the Uniform Requirements. For example, items such as office furnishings and information technology systems are allowable as Equipment costs. The Applicant must comply, as applicable, with the Buy American Act of 1933, 41 U.S.C. 8301-8303 and section 2 CFR 200.216 of the Uniform Requirements, with respect to the purchase of Equipment | All.
xii. Supplies | Grant funds used to pay for tangible personal property with a per unit acquisition cost of less than $5,000, in accordance with section 200.1 of the Uniform Requirements. For example, a desktop computer costing $1,000 is allowable as a Supply cost. The Applicant must comply, as applicable, with the Buy American Act of 1933, 41 U.S.C. 8301-8303 and section 2 CFR 200.216 of the Uniform Requirements, with respect to the purchase of Supplies | All.
* All CDFI Rapid Response Program eligible activities must be in an Eligible Market or the Applicant's approved Target Market. Eligible Market is defined as (i) a geographic area meeting the requirements set forth in 12 CFR 1805.201(b)(3)(ii), or (ii) individuals that are Low-Income, African American, Hispanic, Native American, Native Hawaiians residing in Hawaii, Alaska Natives residing in Alaska, or Other Pacific Islanders residing in American Samoa, Guam or the Northern Mariana Islands.

III. Eligibility Information

¹¹ Regulated Institutions include Insured Credit Unions, Insured Depository Institutions, State-Insured Credit Unions and Depository Institution Holding Companies.

A. Eligible Applicants: For the purposes of this NOFA, the following tables set forth the eligibility criteria to receive an award from the CDFI Fund, along with certain definitions of terms. Table 4 below illustrates eligibility criteria for all CDFI Rapid Response Program Applicants including CDFI certification criteria and other requirements that apply to all CDFI Rapid Response Program Applicants.¹²

¹² Depository Institution Holding Company or DIHC means a Bank Holding Company or a Savings and Loan Holding Company.

Table 4—Eligibility Requirements for All CDFI Rapid Response Program Applicants
Applicant | • Only the entity that will carry out the proposed award activities may apply for an award (other than Depository Institution Holding Companies (DIHC) ¹²—see below). Recipients may not create a new legal entity to carry out the proposed award activities.
| • The information in the Application should only reflect the activities of the Applicant, including the presentation of financial and portfolio information. Do not include financial or portfolio information from parent companies, Affiliates, or Subsidiaries in the Application unless it relates to the provision of Development Services.
| • An Applicant that applies on behalf of another organization will be rejected without further consideration, other than Depository Institution Holding Companies (see below).
Application type and submission overview through Grants.gov and Awards Management Information System (AMIS) | • Applicants must submit the Required Application Documents listed in Table 5. • The CDFI Fund will only accept Applications that use the official Application templates provided on the Grants.gov and AMIS websites. Applications submitted with alternative or altered templates will not be considered.
| • Applicants undergo a two-step process that requires the submission of Application documents by two separate deadlines in two different locations: (1) The SF-424 in Grants.gov and (2) all other Required Application Documents in AMIS.
| • Grants.gov and the SF-424:
| ○ Grants.gov: Applicants must submit the Standard Form (SF) SF-424, Application for Federal Assistance.
| ○ All Applicants must register in the Grants.gov system to successfully submit an Application. The CDFI Fund strongly encourages Applicants to register as soon as possible.
| ○ The CDFI Fund will not extend the SF-424 application deadline for any Applicant that started the Grants.gov registration process on, before, or after the date of the publication of this NOFA, but did not complete it by the deadline except in the case of a Federal government administrative or Federal government technological error that directly resulted in a late submission of the SF-424.
| ○ The SF-424 must be submitted in Grants.gov on or before the deadline listed in Table 1 and Table 6. Applicants are strongly encouraged to submit their SF-424 as early as possible in the Grants.gov portal.
| ○ The deadline for the Grants.gov submission is before the AMIS submission deadline.
| ○ The SF-424 must be submitted under the CDFI Rapid Response Program Funding Opportunity Number for the CDFI Rapid Response Program Application.
| ○ If the SF-424 is not accepted by Grants.gov by the deadline, the CDFI Fund will not review any material submitted in AMIS and the Application will be deemed ineligible.
| • AMIS and all other Required Application Documents listed in Table 5:
| ○ AMIS is an enterprise-wide information technology system. Applicants will use AMIS to submit and store organization and Application information with the CDFI Fund.
| ○ Applicants are only allowed one CDFI Rapid Response Program Application submission in AMIS.
| ○ Each Application in AMIS must be signed by an Authorized Representative.
| ○ Applicants must ensure that the Authorized Representative is an employee or officer of the Applicant, authorized to sign legal documents on behalf of the organization. Consultants working on behalf of the organization may not be designated as Authorized Representatives.
| ○ Only the Authorized Representative or Application Point of Contact, included in the Application, may submit the Application in AMIS.
| ○ All Required Application Documents must be submitted in AMIS on or before the deadline specified in Tables 1 and 6.
| ○ The CDFI Fund will not extend the deadline for any Applicant except in the case of a Federal government administrative or technological error that directly resulted in the late submission of the Application in AMIS.
Employer Identification Number (EIN) | • Applicants must have a unique EIN assigned by the Internal Revenue Service (IRS).
| • The CDFI Fund will reject an Application submitted with the EIN of a parent or Affiliate organization.
| • The EIN in the Applicant's AMIS account must match the EIN in the Applicant's System for Award Management (SAM) account. The CDFI Fund reserves the right to reject an Application if the EIN in the Applicant's AMIS account does not match the EIN in its SAM account.
| • Applicants must enter their EIN into their AMIS profile by the deadline specified in Tables 1 and 6.
Dun & Bradstreet, (DUNS) number | • Pursuant to OMB guidance (68 FR 38402), an Applicant must apply using its unique DUNS number in Grants.gov.
| • The CDFI Fund will reject an Application submitted with the DUNS number of a parent or Affiliate organization.
| • The DUNS number in the Applicant's AMIS account must match the DUNS number in the Applicant's Grants.gov and SAM accounts. The CDFI Fund will reject an Application if the DUNS number in the Applicant's AMIS account does not match the DUNS number in its Grants.gov and SAM accounts.
| • Applicants must enter their DUNS number into their AMIS profile on or before the deadline specified in Tables 1 and 6.
System for Award Management (SAM) | • SAM is a web-based, government-wide application that collects, validates, stores, and disseminates business information about the federal government's trading partners in support of the contract awards, grants, and electronic payment processes.
| • Applicants must register in SAM as part of the Grants.gov registration process.
| • Applicants must have a DUNS number and an EIN number in order to register in SAM.
| • Applicants must be registered in SAM in order to submit an SF-424 in Grants.gov.
| • The CDFI Fund reserves the right to deem an Application ineligible if the Applicant's SAM account expires during the Application evaluation period, or is set to expire before September 30, 2021, and the Applicant does not re-activate, or renew, as applicable, the account within the deadlines that the CDFI Fund communicates to affected Applicants during the Application evaluation period.
AMIS Account | • The Authorized Representative and/or Application Point of Contact must be included as “users” in the Applicant's AMIS account.
| • An Applicant that fails to properly update its AMIS account may miss important communication from the CDFI Fund and/or may not be able to successfully submit an Application.
501(c)(4) status | • Pursuant to 2 U.S.C. 1611, any 501(c)(4) organization that engages in lobbying activities is not eligible to receive a CDFI Rapid Response Program grant.
Compliance with Nondiscrimination and Equal Opportunity Statutes, Regulations, and Executive Orders | • An Applicant may not be eligible to receive an award if proceedings have been instituted against it in, by, or before any court, governmental agency, or administrative body, and a final determination within the last three years indicates the Applicant has violated any of the following laws, including but not limited to: Title VI of the Civil Rights Act of 1964, as amended (42 U.S.C. 2000d); Section 504 of the Rehabilitation Act of 1973 (29 U.S.C. 794); the Age Discrimination Act of 1975, (42 U.S.C. 6101-6107), and Executive Order 13166, Improving Access to Services for Persons with Limited English Proficiency.
Depository Institution Holding Company Applicant | • In the case where a CDFI Depository Institution Holding Company Applicant intends to carry out the activities of an award through its Subsidiary CDFI Insured Depository Institution, the Application must be submitted by the CDFI Depository Institution Holding Company and reflect the activities and financial performance of the Subsidiary CDFI Insured Depository Institution.
| • If a Depository Institution Holding Company and its Certified CDFI Subsidiary Insured Depository Institution both apply for a CDFI Rapid Response Program grant, only the Depository Institution Holding Company will receive an award, not both. In such instances, the Subsidiary Insured Depository Institution will be deemed ineligible.
| • Authorized Representatives of both the Depository Institution Holding Company and the Subsidiary CDFI Insured Depository Institution must certify that the information included in the Application represents that of the Subsidiary CDFI Insured Depository Institution, and that the CDFI RRP grant will be used to support the Subsidiary CDFI Insured Depository Institution for the eligible activities outlined in the Application.
Use of award | • All awards made through this NOFA must be used to support the Applicant's activities in at least one of the Eligible Activity Categories (see Section II.(C)).
| • With the exception of Depository Institution Holding Company Applicants, awards may not be used to support the activities of, or otherwise be passed through, transferred, or co-awarded to, third-party entities, whether Affiliates, Subsidiaries, or others, unless done pursuant to a merger or acquisition or similar transaction, and with the CDFI Fund's prior written consent. The Recipient of any award made through this NOFA must comply, as applicable, with the Buy American Act of 1933, 41 U.S.C. 8301-8303 and section 2 CFR 200.216 of the Uniform Requirements, with respect to any Direct Costs.
Requested award amount | • An Applicant must state its requested award amount in the Application in AMIS. An Applicant that does not include this amount will not be allowed to submit an Application.
| • An Applicant may not request more than 150% of the dollar volume of its Total On-Balance Sheet Financial Products Closed in Eligible Markets and/or Target Markets for its most recent historic fiscal year, with the following exception: An Applicant with Total On-Balance Sheet Financial Products Closed in Eligible Markets and/or Target Markets of less than $133,334 for its most recent historic fiscal year may request the minimum award size.
Pending resolution of noncompliance | • The CDFI Fund will consider an Application submitted by an Applicant that has pending noncompliance issues on any of its previously executed award agreement(s), if the CDFI Fund has not yet made a final compliance determination.
Noncompliance or default status | • The CDFI Fund will not consider an Application submitted by an Applicant that has a previously executed award agreement(s) if, as of the date of the Application, (i) the CDFI Fund has made a final determination that such entity is noncompliant or found in default with a previously executed agreement, and (ii) the CDFI Fund has provided written notification that such entity is ineligible to apply for or receive any future CDFI Fund awards or allocations. Such entities will be ineligible to submit an Application for such time period as specified by the CDFI Fund in writing.
| • The CDFI Fund will not consider any Applicant that has defaulted on a loan from the CDFI Fund within five years of the Application deadline.
Debarment/Do Not Pay Verification | • The CDFI Fund will conduct a debarment check and will not consider an Application submitted by an Applicant if the Applicant (or Affiliate of an Applicant) is delinquent on any Federal debt.
| • The Do Not Pay Business Center was developed to support Federal agencies in their efforts to reduce the number of improper payments made through programs funded by the Federal government. The Do Not Pay Business Center provides delinquency information to the CDFI Fund to assist with the debarment check.
CDFI Certification Status | • Each CDFI Rapid Response Program Applicant must be a Certified CDFI as of the publication date of this NOFA in the Federal Register.
| • The CDFI Fund will consider an Application submitted by an Applicant that has pending noncompliance issues with its Annual Certification Report if the CDFI Fund has not yet made a final compliance determination.
| • If a Certified CDFI loses its certification at any point prior to the award announcement, the Application will be deemed ineligible and no longer be considered by the CDFI Fund.
Regulated Institution | • Each Regulated Institution CDFI Rapid Response Program Applicant must have a CAMELS/CAMEL rating (rating for banks and credit unions, respectively) or equivalent type of rating by its regulator (collectively referred to as “CAMELS/CAMEL rating”) of at least “4”.
| • CDFI Rapid Response Program Applicants with CAMELS/CAMEL ratings of “5” will not be eligible for awards.
| • The CDFI Fund will not approve a CDFI Rapid Response Program award for an Applicant that has a Community Reinvestment Act (CRA) assessment rating of below “Satisfactory” on its most recent examination. Applicants and/or their Appropriate Federal Banking Agency may be contacted by the CDFI Fund to provide additional information related to Federal bank regulatory or CRA information. The CDFI Fund will consider this information and may choose to not approve a CDFI Rapid Response Program award for an Applicant if the information indicates that the Applicant may be unable to responsibly manage, re-invest, and/or report on a CDFI Rapid Response Program award during the Period of Performance.
| • The CDFI Fund will also evaluate material concerns identified by the Appropriate Federal Banking Agency in determining the eligibility of Regulated Institution Applicants.

IV. Application and Submission Information

A. Address to Request an Application Package: Application materials can be found on the CDFI Fund's website at www.cdfifund.gov. Applicants may request a paper version of any Application material by contacting the CDFI Fund Help Desk at cdfihelp@cdfi.treas.gov. Paper versions of Application materials will only be provided if an Applicant cannot access the CDFI Fund's website.

B. Content and Form of Application Submission: All Applications must be prepared using the English language, and calculations must be computed in U.S. dollars. The following table lists the Required Application Documents for the CDFI Rapid Response Program Funding Round. The CDFI Fund reserves the right to request and review other pertinent or public information that has not been specifically requested in this NOFA or the Application. Information submitted by the Applicant that the CDFI Fund has not specifically requested will not be reviewed or considered as part of the Application. Financial data, portfolio, and activity information provided in the Application should only include the Applicant's activities. Information submitted must accurately reflect the Applicant's activities.

Table 5—Required Application Documents
Application documents | Applicant type | Submission format
Active AMIS Account | All Applicants | AMIS.
SF-424 | All Applicants | Fillable PDF in Grants.gov.
CDFI Rapid Response Program Application Components: | All Applicants | AMIS.
• Funding Application Detail
• Data and Charts as listed in AMIS and outlined in Application materials
ATTACHMENTS TO THE APPLICATION: Add to “Related Attachments” related list in Application
Audited financial statements for the Applicant's Three Most Recent Historic Fiscal Years | CDFI Rapid Response Program Applicants: if available: loan funds, Venture Capital Funds, and other non-Regulated Institutions | PDF in AMIS.
Management Letter for the Applicant's Most Recent Historic Fiscal Year The Management Letter is prepared by the Applicant's auditor and is a communication on internal control over financial reporting, compliance, and other matters. The Management Letter contains the auditor's findings regarding the Applicant's accounting policies and procedures, internal controls, and operating policies, including any material weaknesses, significant deficiencies, and other matters identified during auditing. The Management Letter may include suggestions for improving on identified weaknesses and deficiencies and/or best practice suggestions for items that may not be considered to be weaknesses or deficiencies. The Management Letter may also include items that are not required to be disclosed in the annual audited financial statements. The Management Letter is distinct from the auditor's Opinion Letter, which is required by Generally Accepted Accounting Principles (GAAP). Management Letters are not required by GAAP, and are sometimes provided by the auditor as a separate letter from the audit itself | CDFI Rapid Response Program Applicants, if audited financial statements are available: Loan funds, Venture Capital Funds, and other non-Regulated Institutions | PDF in AMIS.
Statement in Lieu of Management Letter for Applicant's Most Recent Historic Fiscal Year issued by the Board Treasurer or other Board member using the template provided in the Application materials (required only if Management Letters are not available for audited financial statements) | CDFI Rapid Response Program Applicants if audited financial statements are available but a Management Letter is not available: Loan funds, Venture Capital Funds, and other non-Regulated Institutions | AMIS.
Unaudited financial statements for Applicant's Three Most Recent Historic Years (required only if audited financial statements are not available) | CDFI Rapid Response Program Applicants: Loan funds, Venture Capital Funds, and other non-Regulated Institutions | PDF in AMIS.
Current Year to Date—December 31, 2020 Unaudited financial statements | CDFI Rapid Response Program Applicants: Loan funds, Venture Capital Funds, and other non-Regulated Institutions | PDF in AMIS.

C. Application Submission: The CDFI Fund has a two-step process that requires the submission of Required Application Documents (listed in Table 5) on separate deadlines and locations. The SF-424 must be submitted through Grants.gov and all other Required Application Documents through the AMIS portal. The CDFI Fund will not accept Applications via email, mail, facsimile, or other forms of communication, except in extremely rare circumstances that have been pre-approved in writing by the CDFI Fund. The deadline for submitting the SF-424 is listed in Tables 1 and 6.

All Applicants must register in the Grants.gov system to successfully submit the SF-424. The CDFI Fund strongly encourages Applicants to start the Grants.gov registration process as soon as possible (refer to the following link: http://www.grants.gov/web/grants/register.html). The Grants.gov registration process requires Applicants to have DUNS and EIN numbers.

The CDFI Fund will not extend the Application deadline for any Applicant that started the Grants.gov registration process but did not complete it by the deadline. An Applicant that has previously registered with Grants.gov must verify that its registration is current and active. Applicants should contact Grants.gov directly with questions related to the registration or submission process as the CDFI Fund does not maintain the Grants.gov system.

Each Application must be signed by a designated Authorized Representative in AMIS before it can be submitted. Applicants must ensure that an Authorized Representative is an employee or officer and is authorized to sign legal documents on behalf of the Applicant. Consultants working on behalf of the Applicant may not be designated as Authorized Representatives. Only a designated Authorized Representative or Application Point of Contact, included in the Application, may submit the Application in AMIS. If an Authorized Representative or Application Point of Contact does not submit the Application, the Application will be deemed ineligible.

D. Dun & Bradstreet Universal Numbering System: Pursuant to the Uniform Requirements, each Applicant must provide as part of its Application submission, a Dun and Bradstreet Universal Numbering System (DUNS) number. Applicants without a DUNS number will not be able to register and submit an Application in the Grants.gov system. Allow sufficient time for Dun & Bradstreet to respond to inquiries and/or requests for DUNS numbers.

E. System for Award Management (SAM): Any entity applying for Federal grants or other forms of Federal financial assistance through Grants.gov must be registered in SAM before submitting its Application. Registration in SAM is required as part of the Grants.gov registration process. A signed notarized letter identifying the SAM authorized entity administrator for the entity associated with the DUNS number is required. This requirement is applicable to new entities registering in SAM, as well as to existing entities with registrations being updated or renewed in SAM. Applicants without DUNS and/or EIN numbers should allow for additional time as an Applicant cannot register in SAM without those required numbers. Applicants that have previously completed the SAM registration process must verify that their SAM accounts are current and active. Each Applicant must continue to maintain an active SAM registration with current information at all times during which it has an active Federal award or an Application under consideration by a Federal awarding agency. The CDFI Fund will deem ineligible any Applicant that fails to properly register or activate its SAM account and, as a result, is unable to submit the SF-424 in Grants.gov or Application in AMIS by the applicable Application deadlines. These restrictions also apply to organizations that have not yet received a DUNS or EIN number. Applicants must contact SAM directly with questions related to registration or SAM account changes as the CDFI Fund does not maintain this system and has no ability to make changes or correct errors of any kind. For more information about SAM, visit https://www.sam.gov.

F. Submission Dates and Times:

1. Submission Deadlines: The following table provides the critical deadlines for the CDFI Rapid Response Program Funding Round.

Table 6—CDFI Rapid Response Program Critical Deadlines for Applicants
Description | Deadline | Time (eastern time- ET) | Submission method
Last day to enter EIN and DUNS numbers in AMIS | March 22, 2021 | 11:59 p.m | AMIS.
Last day to submit SF-424 Mandatory (Application for Federal Assistance) | March 22, 2021 | 11:59 p.m | Electronically via Grants.gov.
Last day to contact CDFI Fund with questions about the CDFI Rapid Response Program | March 23, 2021 | 5:00 p.m | Service Request via AMIS or CDFI Fund Helpdesk: 202-653-0421.
Last day to contact AMIS-IT Help Desk (regarding AMIS technical problems only) | March 25, 2021 | 5:00 p.m | Service Request via AMIS or 202-653-0422 or AMIS@cdfi.treas.gov.
Last day to submit CDFI Rapid Response Program Application | March 25, 2021 | 11:59 p.m | AMIS.

2. Confirmation of Application Submission in Grants.gov and AMIS: Applicants are required to submit the SF-424, Application for Federal Assistance through the Grants.gov system, under the CDFI Rapid Response Program Funding Opportunity Number by the applicable deadline. All other Required Application Documents (listed in Table 5) must be submitted through the AMIS website by the applicable deadline. Applicants must submit the SF-424 prior to submitting the Application in AMIS. If the SF-424 is not successfully accepted by Grants.gov by the deadline, the CDFI Fund will not review the Application submitted in AMIS, and the Application will be deemed ineligible.

a. Grants.gov Submission Information: Each Applicant will receive an email from Grants.gov immediately after submitting the SF-424 confirming that the submission has entered the Grants.gov system. This email will contain a tracking number for the submitted SF-424. Within 48 hours, the Applicant will receive a second email, which will indicate if the submitted SF-424 was either successfully validated or rejected with errors. However, Applicants should not rely on the email notification from Grants.gov to confirm that their SF-424 was validated. Applicants are strongly encouraged to use the tracking number provided in the first email to closely monitor the status of their SF-424 by contacting the helpdesk at Grants.gov directly. The Application material submitted in AMIS is not officially accepted by the CDFI Fund until Grants.gov has validated the SF-424.

b. AMIS Submission Information: AMIS is a web-based portal where Applicants will directly enter their Application information and add the required attachments listed in Table 5. AMIS will verify that the Applicant provided the minimum information required to submit an Application. Applicants are responsible for the quality and accuracy of the information and attachments included in the Application submitted in AMIS. The CDFI Fund strongly encourages Applicants to allow for sufficient time to review and complete the Application components and documents included in Table 5, and remedy any issues prior to the Application deadline. Each Application must be signed by an Authorized Representative in AMIS before it can be submitted. Applicants must ensure that the Authorized Representative is an employee or officer and is authorized to sign legal documents on behalf of the Applicant. Consultants working on behalf of the Applicant may not be designated as Authorized Representatives. Only an Authorized Representative or an Application Point of Contact may submit an Application. If an Authorized Representative or Application Point of Contact does not submit the Application, the Application will be deemed ineligible. Applicants may only submit one CDFI Rapid Response Program Application. Upon submission, the Application will be locked and cannot be resubmitted, edited, or modified in any way. The CDFI Fund will not unlock or allow multiple Application submissions.

3. Late Submission: The CDFI Fund will not accept an Application if the SF-424 is not submitted and accepted by Grants.gov by the SF-424 deadline. Additionally, the CDFI Fund will not accept an Application if it is not signed by an Authorized Representative and submitted in AMIS by the Application deadline. In either case, the CDFI Fund will not review any material submitted, and the Application will be deemed ineligible.

However, in cases where a Federal government administrative or Federal government technological error directly resulted in a late submission of the SF-424 or the Application, Applicants are provided two opportunities to submit a written request for acceptance of late submissions. The CDFI Fund will not consider the late submission of the SF-424 or the Application that was a direct result of a delay in a Federal Government process, unless such delay was the result of a Federal government administrative or Federal government technological error.

a. SF-424 Late Submission: In cases where a Federal government administrative or Federal government technological error directly resulted in the late submission of the SF-424, the Applicant must submit a written request for acceptance of the late SF-424 submission and include documentation of the error no later than two business days after the SF-424 deadline. The CDFI Fund will not respond to requests for acceptance of late SF-424 submissions after that time period. Applicants must submit late SF-424 submission requests to the CDFI Fund via an AMIS Service Request to the CDFI Program with a subject line of “Late SF-424 Submission Request.”

b. AMIS Application Late Submission: In cases where a Federal government administrative or Federal government technological error directly resulted in a late submission of the Application in AMIS, the Applicant must submit a written request for acceptance of the late Application submission and include documentation of the error no later than two business days after the Application deadline. The CDFI Fund will not respond to requests for acceptance of late Application submissions after that time period. Applicants must submit late Application submission requests to the CDFI Fund via an AMIS Service Request to the CDFI Program with a subject line of “Late Application Submission Request.”

G. Funding Restrictions: CDFI Rapid Response Program grants are limited by the following:

a. A Recipient shall use CDFI Rapid Response Program funds only for the eligible activities described in Section II. (C)(1) of this NOFA and its Assistance Agreement.

b. With the exception of Depository Institution Holding Company Applicants, CDFI Rapid Response Program grants may not be used to support the activities of, or otherwise be passed through, transferred, or co-awarded to, third-party entities, whether Affiliates, Subsidiaries, or others, unless done pursuant to a merger or acquisition or similar transaction, and with the CDFI Fund's prior written consent.

c. CDFI Rapid Response Program funds shall only be paid to the Recipient.

d. The CDFI Fund, in its sole discretion, may pay CDFI Rapid Response Program funds in amounts, or under terms and conditions, which are different from those requested by an Applicant.

e. The Recipient must comply, as applicable, with the Buy American Act of 1933, 41 U.S.C. 8301-8303 and section 2 CFR 200.216 of the Uniform Requirements, with respect to any Direct Costs.

V. Application Review Information

A. Criteria: If the Applicant has submitted an eligible Application, the CDFI Fund will conduct a substantive review in accordance with the criteria and procedures described in the Regulations, this NOFA, the Application guidance, and the Uniform Requirements. The CDFI Fund reserves the right to contact the Applicant by telephone, email, or mail for the purpose of clarifying or confirming Application information. If contacted, the Applicant must respond within the time period communicated by the CDFI Fund or the Application may be rejected. The CDFI Fund will review the CDFI Rapid Response Program Applications in accordance with the process below. All reviewers will complete the CDFI Fund's conflict of interest process. The CDFI Fund's Application conflict of interest policy is located on the CDFI Fund's website.

1. CDFI Rapid Response Program Application Scoring, Award Selection, Review, and Selection Process: The CDFI Fund will evaluate each Application using a four-step review process described in the sections below. Applicants that meet the minimum criteria will advance to the next step in the review process.

a. Step 1: Eligibility Review: The CDFI Fund will evaluate each Application to determine its eligibility status pursuant to Section III of this NOFA.

b. Step 2: Financial Analysis and Compliance Risk Evaluation:

i. Step 2(a): Financial Analysis: For Regulated Institutions, the CDFI Fund will consider financial safety and soundness information from the Appropriate Federal or State Banking Agency. As detailed in Table 4, each Regulated Institution CDFI Rapid Response Program Applicant must have a CAMELS/CAMEL rating of at least “4” and/or no significant materials concerns from its regulator.

For non-regulated Applicants, the CDFI Fund will evaluate the financial health and viability of each non-regulated Applicant using financial information provided by the Applicant. For the Financial Analysis, each non-regulated Applicant will receive a Total Financial Composite Score on a scale of one (1) to five (5), with one (1) being the highest rating. The Total Financial Composite Score is based on the analysis of twenty-three (23) financial indicators. Applications will be grouped based on the Total Financial Composite Score. Applicants must receive a Total Financial Composite Score of one (1), two (2), three (3), or four (4) to advance to Step 3. Applicants that receive a Total Financial Composite Score of five (5) will not advance to Step 3.

ii. Step 2(b): Compliance Risk Evaluation: For the compliance analysis, the CDFI Fund will evaluate the compliance risk of each Applicant using information provided in the Application as well as an Applicant's reporting history, reporting capacity, and performance risk with respect to the CDFI Fund's PG&Ms. Each Applicant will receive a Total Compliance Composite Score on a scale of one (1) to five (5), with one (1) being the highest rating. Applicants that receive an initial Total Compliance Composite Score of four (4) or five (5) will be confirmed by CDFI Fund Staff. If the Applicant is deemed a high compliance risk (score of a 4 or 5) after the CDFI Fund reviews, the Applicant will not advance to Step 3.

c. Step 3: Final Award Decision: The CDFI Fund will conduct a due diligence review to evaluate each CDFI Rapid Response Program Application to ensure its adherence with the CDFI Fund's policies and procedures as well as applicable Federal regulations. The due diligence review includes an analysis of programmatic risk factors including but not limited to financial stability; history of performance in managing Federal awards (including timeliness of reporting and compliance); audit or regulator findings; and the Applicant's ability to effectively implement Federal requirements. If an Applicant is found to be a significant risk as a result of this due diligence review, the CDFI Fund may eliminate the Applicant from consideration for a CDFI Rapid Response Program grant or may reduce the Applicant's award size. The CDFI Fund also reserves the right to reduce the award size for Applicants that have a CAMEL/CAMELS, or equivalent, rating of four (4) or Total Financial Composite Score of four (4) during the due diligence review.

d. Step 4: Award Amount Determination: The CDFI Fund determines an award amount for each Application using a formula-based approach based on the due diligence performed, the Applicant's requested amount, and certain other factors, including but not limited to, the Applicant's deployment track record, minimum award size, submission of audited financial statements, amount targeted to a Native Community, and funding availability. Award amounts may be reduced from the requested award amount as a result of the above factors. All approved Applicants will be awarded at least the minimum award amount noted in Table 2. Award sizes for Applicants without audited financial statements will be limited to no more than $200,000. The funding available will be split among successful Applicants using a formula approach that ensures the following: (i) an Applicant's final award amount does not exceed its requested award amount, (ii) an Applicant's final award amount does not exceed either (a) 150% of the dollar volume of its Total On-Balance Sheet Financial Products Closed in Eligible Markets and/or Target Markets for its most recent historic fiscal year, or (b) the minimum award size ($200,000), whichever is greater, (iii) an Applicant's final award amount does not exceed $200,000 if it does not have audited financial statements, (iv) an Applicant's award amount is adjusted based on the due diligence review, and (v) a minimum of $25 million of the total CDFI Rapid Response Program funds awarded are allocated to benefit Native Communities.

Based on the anticipated formula, the CDFI Fund does not anticipate that any applicant will receive the maximum award amount of $5 million. The award is dependent on the number of awards made, for example: if there are 510 awards, the estimated largest award would be $3.3 million; if there are 800 awards, the estimated largest award would be $1.8 million; and if there are 1,050 awards, the estimated largest award would be $1.4 million.

2. Regulated Institutions: The CDFI Fund will consider safety and soundness information from the Appropriate Federal or State Banking Agency. If the Applicant is a CDFI Depository Institution Holding Company, the CDFI Fund will consider information provided by the Appropriate Federal or State Banking Agencies about both the CDFI Depository Institution Holding Company and the Certified CDFI Subsidiary Insured Depository Institution that will expend and carry out the award. If the Appropriate Federal or State Banking Agency identifies safety and soundness concerns, the CDFI Fund will assess whether such concerns cause or will cause the Applicant to be incapable of undertaking the activities for which funding has been requested.

3. Non-Regulated Institutions:

The CDFI Fund must ensure, to the maximum extent practicable, that Recipients which are non-regulated CDFIs are financially and managerially sound, and maintain appropriate internal controls (12 U.S.C. 4707(f)(1)(A) and 12 CFR 1805.800(b)). Further, the CDFI Fund must determine that an Applicant's capacity to operate as a CDFI and its continued viability will not be dependent upon assistance from the CDFI Fund (12 U.S.C. 4704(b)(2)(A)). If it is determined that the Applicant is incapable of meeting these requirements, the CDFI Fund reserves the right to deem the Applicant ineligible or terminate the award.

B. Anticipated Award Announcement: The CDFI Fund anticipates making the CDFI Rapid Response Program award announcement before September 30, 2021. However, the anticipated award Announcement Date is subject to change without notice.

C. Application Rejection: The CDFI Fund reserves the right to reject an Application if information (including administrative errors) comes to the CDFI Fund's attention that: Adversely affects an Applicant's eligibility for an award; adversely affects the Recipient's certification as a CDFI (to the extent that the award is conditional upon CDFI certification); adversely affects the CDFI Fund's evaluation or scoring of an Application; or indicates fraud or mismanagement on the Applicant's part. If the CDFI Fund determines any portion of the Application is incorrect in a material respect, the CDFI Fund reserves the right, in its sole discretion, to reject the Application. The CDFI Fund reserves the right to change its eligibility and evaluation criteria and procedures, if the CDFI Fund deems it appropriate. If the changes materially affect the CDFI Fund's award decisions, the CDFI Fund will provide information about the changes through its website. The CDFI Fund's award decisions are final, and there is no right to appeal decisions.

VI. Federal Award Administration Information

A. Award Notification: Each successful Applicant will receive an email “notice of award” notification from the CDFI Fund stating that its Application has been approved for an award. Each Applicant not selected for an award will receive an email stating that a debriefing notice has been provided in its AMIS account.

B. Assistance Agreement: Each Applicant selected to receive an award must enter into an Assistance Agreement with the CDFI Fund in order to receive a payment(s). The Assistance Agreement will set forth the award's terms and conditions, including but not be limited to the: (i) Award amount; (ii) award type; (iii) award uses; (iv) eligible use of funds; (v) PG&Ms; and (vi) reporting requirements. CDFI Rapid Response Program Assistance Agreements have two-year Periods of Performance.

1. Certificate of Good Standing: All CDFI Rapid Response Program Recipients that are not Regulated Institutions will be required to provide the CDFI Fund with a certificate of good standing from the secretary of state for the Recipient's jurisdiction of formation prior to closing. This certificate can often be acquired online on the secretary of state website for the Recipient's jurisdiction of formation and must generally be dated within 180 days prior to the date the Recipient executes the Assistance Agreement. Due to potential backlogs in state government offices, Applicants are advised to submit requests for certificates of good standing around the time they submit their Applications.

2. Closing: Pursuant to the Assistance Agreement, there will be an initial closing at which point the Assistance Agreement and related documents will be properly executed and delivered, and an initial payment CDFI Rapid Response Program funds may be made. The first payment is the estimated amount of the award that the Recipient states in its Application that it will use for eligible CDFI Rapid Response Program activities in the first 12 months after the award announcement. The CDFI Fund reserves the right to increase the first payment amount to ensure that any subsequent payment is at least $25,000.

The CDFI Fund will minimize the time between the Recipient incurring costs for eligible activities and award payment(s) in accordance with the Uniform Requirements. Advanced payments for eligible activities will occur no more than one year in advance of the Recipient incurring costs for the eligible activities. Following the initial closing, there may be subsequent closings involving additional award payments. There will be a limit of two additional award payments. Any documentation in addition to the Assistance Agreement that is connected with such subsequent closings and payments shall be properly executed and timely delivered by the Recipient to the CDFI Fund.

3. Requirements Prior to Entering into an Assistance Agreement: If, prior to entering into an Assistance Agreement, information (including administrative errors) comes to the CDFI Fund's attention that: Adversely affects the Recipient's eligibility for an award; adversely affects the Recipient's certification as a CDFI; adversely affects the CDFI Fund's evaluation of the Application; indicates that the Recipient is not in compliance with any requirement listed in the Uniform Requirements; indicates that the Recipient is not in compliance with a term or condition of a prior CDFI Fund award; indicates the Recipient has failed to execute and return a prior round Assistance Agreement to the CDFI Fund within the CDFI Fund's deadlines; or indicates fraud or mismanagement on the Recipient's part, the CDFI Fund may, in its discretion and without advance notice to the Recipient, terminate the award or take such other actions as it deems appropriate. The CDFI Fund reserves the right, in its sole discretion, to rescind an award if the Recipient fails to return the Assistance Agreement, signed by the Authorized Representative of the Recipient, and/or provide the CDFI Fund with any requested documentation, within the CDFI Fund's deadlines.

In addition, the CDFI Fund reserves the right, in its sole discretion, to terminate and rescind the Assistance Agreement and the award made under this NOFA pending the criteria described in the following table:

Table 7—Requirements Prior To Executing an Assistance Agreement
Requirement | Criteria
Failure to meet reporting requirements | • If a Recipient received a prior award under any CDFI Fund program and is not in compliance with the reporting requirements of the previously executed agreement(s), the CDFI Fund may delay entering into an Assistance Agreement or disbursing an award until such reporting requirements are met. If the Recipient is unable to meet the requirement(s) within the timeframe specified by the CDFI Fund, the CDFI Fund may terminate and rescind the Assistance Agreement and the award made under this NOFA.
| • The automated systems the CDFI Fund uses only acknowledge a report's receipt and are not a determination of meeting reporting requirements.
Failure to maintain CDFI Certification | • A CDFI Rapid Response Program Recipient must be a Certified CDFI.
| • If a CDFI Rapid Response Program Recipient fails to maintain CDFI certification, the CDFI Fund will terminate and rescind the Assistance Agreement and the award made under this NOFA.
Pending resolution of noncompliance | • The CDFI Fund will delay entering into an Assistance Agreement with a Recipient that has pending noncompliance issues with any of its previously executed CDFI award agreement(s), if the CDFI Fund has not yet made a final compliance determination.
| • If the Recipient is unable to satisfactorily resolve the compliance issues, the CDFI Fund may terminate and rescind the Assistance Agreement and the award made under this NOFA.
Noncompliance or default status | • If, at any time prior to entering into an Assistance Agreement, the CDFI Fund determines that a Recipient is noncompliant or found in default with any previously executed award agreement(s), and the CDFI Fund has provided written notification that the Recipient is ineligible to apply for or receive any future awards or allocations for a time period specified by the CDFI Fund in writing, the CDFI Fund may delay entering into an Assistance Agreement until the Recipient has cured the noncompliance by taking actions the CDFI Fund has specified within such specified timeframe. If the Recipient is unable to cure the noncompliance within the specified timeframe, the CDFI Fund may terminate and rescind the Assistance Agreement and the award made under this NOFA.
Compliance with Federal civil rights requirements | • If, prior to entering into an Assistance Agreement under this NOFA, the Recipient receives a final determination, made within the last three years, in any proceeding instituted against the Recipient in, by, or before any court, governmental, or administrative body or agency, declaring that the Recipient has violated the following laws: Title VI of the Civil Rights Act of 1964, as amended (42 U.S.C. 2000d); Section 504 of the Rehabilitation Act of 1973 (29 U.S.C. 794); the Age Discrimination Act of 1975, (42 U.S.C. 6101-6107), and Executive Order 13166, Improving Access to Services for Persons with Limited English Proficiency, the CDFI Fund will terminate and rescind the Assistance Agreement and the award made under this NOFA.
Do Not Pay | • The Do Not Pay Business Center was developed to support Federal agencies in their efforts to reduce the number of improper payments made through programs funded by the Federal government.
| • The CDFI Fund reserves the right, in its sole discretion, to rescind an award if the Recipient (or Affiliate of a Recipient) is determined to be ineligible based on data in the Do Not Pay database.
Safety and soundness | • If it is determined the Recipient is, or will be, incapable of meeting its award obligations, the CDFI Fund will deem the Recipient to be ineligible, or require it to improve its safety and soundness prior to entering into an Assistance Agreement.

C. Reporting:

1. Reporting Requirements: On an annual basis during the Period of Performance, the CDFI Fund may collect information from each Recipient including, but not limited to, an Annual Report with the following components (Annual Reporting Requirements):

Table 8—Annual Reporting Requirements *
Financial Statement Audit Report (Non-profit Recipient including Insured Credit Unions and State-Insured Credit Unions) | A Non-profit Recipient (including Insured Credit Unions and State-Insured Credit Unions) must submit a Financial Statement Audit (FSA) Report in AMIS, along with the Recipient's statement of financial condition audited or reviewed by an independent certified public accountant, if any are prepared.
| Under no circumstances should this be construed as the CDFI Fund requiring the Recipient to conduct or arrange for additional audits not otherwise required under Uniform Requirements or otherwise prepared at the request of the Recipient or parties other than the CDFI Fund.
Financial Statement Audit Report (For-Profit Recipient) | For-profit Recipients must submit a FSA Report in AMIS, along with the Recipient's statement of financial condition audited or reviewed by an independent certified public accountant.
Financial Statement Audit Report (Depository Institution Holding Company and Insured Depository Institution) | If the Recipient is a Depository Institution Holding Company or an Insured Depository Institution, it must submit a FSA Report in AMIS.
Single Audit Report (Non-Profit Recipients, if applicable) | A non-profit Recipient must complete an annual Single Audit pursuant to the Uniform Requirements (see 2 CFR Subpart F—Audit Requirements) if it expends $750,000 or more in Federal awards in its fiscal year, or such other dollar threshold established by OMB pursuant to 2 CFR 200.501. If a Single Audit is required, it must be submitted electronically to the Federal Audit Clearinghouse (FAC) (see 2 CFR Subpart F—Audit Requirements in the Uniform Requirements) and optionally through AMIS.
Transaction Level Report (TLR) | The Recipient must submit a TLR to the CDFI Fund through AMIS.
| If the Recipient is a Depository Institution Holding Company that deploys all or a portion of its CDFI Rapid Response Program grant through its Subsidiary CDFI Insured Depository Institution, that Subsidiary CDFI Insured Depository Institution must also submit a TLR. Furthermore, if the Depository Institution Holding Company itself deploys any portion of the CDFI Rapid Response Program grant, the Depository Institution Holding Company must submit a TLR.
Uses of Award Report | The Recipient must submit the Uses of Award Report to the CDFI Fund in AMIS. If the Recipient is a Depository Institution Holding Company that deploys all or a portion of its CDFI Rapid Response Program grant through its Subsidiary CDFI Insured Depository Institution, that Subsidiary CDFI Insured Depository Institution must also submit a Uses of Award Report. Furthermore, if the Depository Institution Holding Company itself deploys any portion of the CDFI Rapid Response Program grant, the Depository Institution Holding Company must submit a Uses of Award Report.
Performance Progress Report | The Recipient must submit the Performance Progress Report through AMIS.
| If the Recipient is a Depository Institution Holding Company that deploys all or a portion of its CDFI Rapid Response Program grant through its Subsidiary CDFI Insured Depository Institution, that Subsidiary CDFI Insured Depository Institution must also submit a Performance Progress Report. Furthermore, if the Depository Institution Holding Company itself deploys any portion of the CDFI Rapid Response Program grant, the Depository Institution Holding Company must submit a Performance Progress Report.
* Personally Identifiable Information (PII) is information, which if lost, compromised, or disclosed without authorization, could result in substantial harm, embarrassment, inconvenience, or unfairness to an individual. Although Applicants are required to enter addresses of individual borrowers/residents of Distressed Communities in AMIS, Applicants should not include the following PII for the individuals who received the Financial Products or Financial Services in AMIS or in the supporting documentation (i.e., name of the individual, Social Security Number, driver's license or state identification number, passport number, Alien Registration Number, etc.). This information should be redacted from all supporting documentation.

The CDFI Fund may also collect data that will enable the Secretary of the Treasury to conduct a study of the impact of the CDFI Rapid Response Program. Reporting requirements will be outlined in the final CDFI Rapid Response Program Assistance Agreement and could include reporting beneficiary demographic data. Reporting requirements may be added or modified at any time at the discretion of the Secretary of the Treasury.

Each Recipient is responsible for the timely and complete submission of the Annual Reporting Requirements. The CDFI Fund reserves the right to contact the Recipient and additional entities or signatories to the Assistance Agreement to request additional information and/or documentation. The CDFI Fund will use such information to monitor each Recipient's compliance with the requirements of the Assistance Agreement and to assess the impact of the CDFI Rapid Response Program. The CDFI Fund reserves the right, in its sole discretion, to modify these reporting requirements, including increasing the scope and frequency of reporting, if it determines it to be appropriate and necessary; however, such reporting requirements will be modified only after notice to Recipients.

2. Financial Management and Accounting: The CDFI Fund will require Recipients to maintain financial management and accounting systems that comply with Federal statutes, regulations, and the terms and conditions of the Federal award. These systems must be sufficient to permit the preparation of reports required by the CDFI Fund to ensure compliance with the terms and conditions of the CDFI Rapid Response Program, including the tracing of funds to a level of expenditures adequate to establish that such funds have been used in accordance with Federal statutes, regulations, and the terms and conditions of the Federal award.

The cost principles used by Recipients must be consistent with Federal cost principles and support the accumulation of costs as required by the principles, and must provide for adequate documentation to support costs charged to the CDFI Rapid Response Program grant. In addition, the CDFI Fund will require Recipients to: maintain effective internal controls; comply with applicable statutes, regulations, and the Assistance Agreement; evaluate and monitor compliance; take appropriate action when not in compliance; and safeguard personally identifiable information.

VII. Agency Contacts

A. The CDFI Fund will respond to questions concerning this NOFA and the Application between the hours of 9:00 a.m. and 5:00 p.m. Eastern Time, starting on the date that the NOFA is published through the date listed in Table 1 and Table 6. The CDFI Fund strongly recommends Applicants submit questions to the CDFI Fund via an AMIS Service Request to the CDFI Program, Office of Certification, Compliance Monitoring and Evaluation, or IT Help Desk. The CDFI Fund will post on its website information to clarify the NOFA and Application. Other information regarding the CDFI Fund and its programs may be obtained from the CDFI Fund's website at http://www.cdfifund.gov. Table 9 lists CDFI Fund contact information:

Table 9—Contact Information
Type of question | Preferred method | Telephone number (not toll free) | Email addresses
CDFI Rapid Response Program Questions for the CDFI Program | Service Request via AMIS | 202-653-0421, option 1 | cdfihelp@cdfi.treas.gov.
CCME | Service Request via AMIS | 202-653-0423 | ccme@cdfi.treas.gov.
AMIS—IT Help Desk | Service Request via AMIS | 202-653-0422 | AMIS@cdfi.treas.gov.

B. Information Technology Support: For IT assistance, the preferred method of contact is to submit a Service Request within AMIS. For the Service Request, select “Technical Issues” from the Program dropdown menu of the Service Request. People who have visual or mobility impairments that prevent them from using the CDFI Fund's website should call (202) 653-0422 for assistance (this is not a toll free number).

C. Communication with the CDFI Fund: The CDFI Fund will use the contact information in AMIS to communicate with Applicants and Recipients. It is imperative, therefore, that Applicants, Recipients, Subsidiaries, Affiliates, and signatories maintain accurate contact information in their accounts. This includes information such as contact names (especially for the Authorized Representative), email addresses, fax and phone numbers, and office locations.

D. Civil Rights and Diversity: Any person who is eligible to receive benefits or services from the CDFI Fund or Recipients under any of its programs is entitled to those benefits or services without being subject to prohibited discrimination. The Department of the Treasury's Office of Civil Rights and Diversity enforces various Federal statutes and regulations that prohibit discrimination in financially assisted and conducted programs and activities of the CDFI Fund. If a person believes that s/he has been subjected to discrimination and/or reprisal because of membership in a protected group, s/he may file a complaint with: Associate Chief Human Capital Officer, Office of Civil Rights, and Diversity, 1500 Pennsylvania Ave. NW, Washington, DC 20220 or (202) 622-1160 (not a toll-free number).

E. Statutory and National Policy Requirements: The CDFI Fund will manage and administer the Federal award in a manner so as to ensure that Federal funding is expended and associated programs are implemented in full accordance with the U.S. Constitution, Federal Law, statutory, and public policy requirements: including but not limited to, those protecting free speech, religious liberty, public welfare, the environment, and prohibiting discrimination.

VIII. Other Information

A. Paperwork Reduction Act: Under the Paperwork Reduction Act (44 U.S.C. chapter 35), an agency may not conduct or sponsor a collection of information, and an individual is not required to respond to a collection of information, unless it displays a valid OMB control number. If applicable, the CDFI Fund may inform Applicants that they do not need to provide certain Application information otherwise required. Pursuant to the Paperwork Reduction Act, the CDFI Rapid Response Program Application has been assigned the following control number: 1559-0021.

B. Application Information Sessions: The CDFI Fund may conduct webinars or host information sessions for organizations that are considering applying to, or are interested in learning about, the CDFI Fund's programs. For further information, visit the CDFI Fund's website at http://www.cdfifund.gov.

Authority: Pub. L. 116-260; 12 U.S.C. 4701, et seq.; 12 CFR parts 1805 and 1815; 2 CFR part 200.

Jodie L. Harris,
Director, Community Development Financial Institutions Fund.

[FR Doc. 2021-04034 Filed 2-25-21; 8:45 am]

BILLING CODE 4810-70-P